DEPARTMENT OF TRANSPORTATION

Federal Highway Administration

Environmental Impact Statement: Mecklenburg and Union Counties, NC

AGENCY: Federal Highway Administration (FHWA), DOT.

ACTION: Rescinding of Notice of Intent and Draft Environmental Impact Statement for proposed U.S. 74 corridor improvements in Mecklenburg and Union Counties, NC.

SUMMARY: The FHWA is issuing this notice to advise the public that we are rescinding the notice of intent and the public notice to prepare an environmental impact statement (EIS) for a proposed highway project in Mecklenburg and Union Counties, North Carolina.

FOR FURTHER INFORMATION CONTACT: Clarence W. Coleman, P.E., Operations Engineer, Federal Highway Administration, 310 New Bern Avenue, Ste 410, Raleigh, North Carolina, 27601-1418, Telephone: (919) 856-4346.

SUPPLEMENTARY INFORMATION: The FHWA, in cooperation with the North Carolina Department of Transportation (NCDOT), is rescinding the notice of intent to prepare an EIS for a proposed multi-lane, controlled access highway along the U.S. 74 corridor connecting I-485 in Mecklenburg County to U.S. 601 in Union County, North Carolina. On April 13, 2000, FHWA issued a notice of intent to prepare an EIS for this proposed project. A Draft EIS was released in November 2003 after resource agencies and the public provided input and comments as part of the project development process. The Draft EIS evaluated several alternatives, including: (1) No Build (2) Transportation Systems Management (TSM), (3) Transportation Demand Management (TSM), (4) Mass Transit, and (5) New Location Alternatives. A public hearing has not been held following the completion of the Draft EIS. Based on the comments received from various Federal and state agencies and the public and a recent decision to change the eastern terminus of the project form U.S. 601 to the proposed Monroe Bypass, the FHWA and NCDOT have agreed not to prepare a Final EIS for the proposed U.S. 74 improvements from I-485 to U.S. 601.

FHWA, NCDOT, and the North Carolina Turnpike Authority (NCTA), plan to prepare a new Draft EIS for the proposed project. A notice of intent to prepare the EIS will be issued subsequent to this rescinding notice. The new Draft EIS will include a toll alternative among the full range of alternatives that will be analyzed as well as a change in the location of the eastern terminus.

Comments or questions concerning the decision to not prepare Final EIS should be directed to NCDOT or FHWA at the address provided in the caption, FOR FURTHER INFORMATION CONTACT. To ensure that the full range of issues related to this proposed action are addressed and all significant issues identified, comments and suggestions are invited from all interested parties. Comments or questions concerning this proposed action and the EIS should be directed to the FHWA at the address provided above.

(Catalog of Federal Domestic Assistance Program Number 20.205, Highway Planning and Construction. The regulations implementing Executive Order 12372 regarding intergovernmental consultation of Federal programs and activities apply to this program.)
Clarence W. Coleman,
Operations Engineer, Raleigh, North Carolina.

[FR Doc. 06-812 Filed 1-27-06; 8:45 am]

BILLING CODE 4910-22-M